DEPARTMENT OF ENERGY

Federal Energy Regulatory Commission

[Project No. 14559-000]

ECOsponsible, Inc.; Notice of Preliminary Permit Application Accepted for Filing and Soliciting Comments, Motions To Intervene, and Competing Applications

On October 24, 2013, ECOsponsible, Inc. filed an application for a preliminary permit, pursuant to section 4(f) of the Federal Power Act (FPA), proposing to study the feasibility of the Setting Pole Rapids Dam Hydro Project (project) to be located on the Raquette River, in Franklin County, New York, near the Town of Tupper Lake, New York. The sole purpose of a preliminary permit, if issued, is to grant the permit holder priority to file a license application during the permit term. A preliminary permit does not authorize the permit holder to perform any land-disturbing activities or otherwise enter upon lands or waters owned by others without the owners' express permission.

The proposed project would consist of the following: (1) Installing three RivGen™ Turbine Generator Units with a total installed capacity of 1,487 kilowatts below Setting Pole Rapids Dam in the Raquette River; (2) a shore power station housing two inverters to convert direct current to alternating current; (3) an overhead 1,450-foot-long, 46.1-kilovolt (kV) transmission line extending from the project to the interconnection with National Grid; and (4) appurtenant facilities. The estimated annual generation of the Setting Pole Rapids Dam Hydro Project would be 10,420 megawatt-hours.

Applicant Contact: Mr. Dennis Ryan, ECOsponsible, Inc., 120 Mitchell Road, Suite 100, East Aurora, NY 14052; phone: (716) 655-3524.

FERC Contact: Tim Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14559-000.

More information about this project, including a copy of the application, can be viewed or printed on the “eLibrary” link of the Commission's Web site at http://www.ferc.gov/docs-filing/elibrary.asp. Enter the docket number (P-14559) in the docket number field to access the document. For assistance, contact FERC Online Support.

Dated: January 23, 2014.
Kimberly D. Bose,
Secretary.

[FR Doc. 2014-01867 Filed 1-29-14; 8:45 am]

BILLING CODE 6717-01-P